DEPARTMENT OF COMMERCE

International Trade Administration

[A-821-818]

Notice of Preliminary Determination of Sales at Less Than Fair Value: Urea Ammonium Nitrate Solutions From the Russian Federation

AGENCY: Import Administration, International Trade Administration, Department of Commerce.

EFFECTIVE DATE: October 3, 2002.

FOR FURTHER INFORMATION CONTACT: Paige Rivas or Tom Futtner, AD/CVD Enforcement, Office 4, Group II, Import Administration, International Trade Administration, U.S. Department of Commerce, 14th Street and Constitution Avenue, NW., Washington, DC 20230; telephone: (202) 482-0651, and (202) 482-3814, respectively.

The Applicable Statute and Regulations

Unless otherwise indicated, all citations to the Tariff Act of 1930, as amended (the Act), are references to the provisions effective January 1, 1995, the effective date of the amendments made to the Act by the Uruguay Round Agreements Act (URAA). In addition, unless otherwise indicated, all citations to the Department of Commerce (the Department) regulations are to the regulations codified at 19 CFR part 351 (April 2002).

Preliminary Determination

We preliminarily determine that imports of urea ammonium nitrate solutions (UANS) from the Russian Federation (Russia) are being sold, or are likely to be sold, in the United States at less than fair value (LTFV), as provided in section 733 of the Act. The estimated margins of sales at LTFV are shown in the “Suspension of Liquidation” section of this notice.

Case History

On May 9, 2002, the Department initiated antidumping duty investigations to determine whether imports of UANS from Lithuania, Belarus, Russia, and Ukraine are being, or are likely to be, sold in the United States at LTFV. See Initiation of Antidumping Investigations: Urea Ammonium Nitrate Solutions from Belarus, Lithuania, the Russian Federation, and Ukraine, 67 FR 35492 (May 20, 2002) (Initiation Notice).¹

¹ The petitioner in this investigation is the Nitrogen Solutions Fair Trade Committee (the petitioner). Its members consist of CF Industries, Inc., Mississippi Chemical Corporation, and Terra Industries, Inc.

On June 4, 2002, the International Trade Commission (ITC) preliminarily determined that there is a reasonable indication that an industry in the United States is materially injured or threatened with material injury by reason of imports of UANS from Belarus, Russia and Ukraine. See Urea Ammonium Nitrate Solution from Belarus, Lithuania, the Russian Federation and Ukraine, 67 FR 39439 (June 7, 2002).

During May 2002, the Department provided participating parties with an opportunity to comment on scope and the product characteristics of subject merchandise. No parties submitted comments.

On May 22, 2002, the Department issued its antidumping questionnaire ² to the Embassy of the Russia in Washington DC, and the company with the most imports during the period of investigation (POI), according to data on the record, JSC Nevinnomysskij Azot (Nevinka). The Department requested that the Embassy of Russia send the questionnaire to all companies that manufactured and exported UANS to the United States, as well as all manufacturers that produced UANS for companies engaged in exporting subject merchandise to the United States, and all companies that exported UANS to the United States, during the POI. Although the Department provided all Russian exporters of UANS with the opportunity to respond to its questionnaire by providing it to the Embassy of Russia, only Nevinka responded to the Department's questionnaire. The Department issued supplemental questionnaires to Nevinka, where appropriate.

² Section A of the questionnaire requests general information concerning a company's corporate structure and business practices, the merchandise under investigation that it sells, and the manner in which it sells that merchandise in all of its markets. Section B requests a complete listing of all home market sales, or, if the home market is not viable, of sales in the most appropriate third-country market (this section is not applicable to respondents in nonmarket economy (NME) cases). Section C requests a complete listing of U.S. sales. Section D requests information on the factors of production of the merchandise sold in or to the United States under investigation. Section E requests information on further manufacturing.

Period of Investigation

The POI is October 1, 2001, through March 31, 2002. This period corresponds to the two most recent fiscal quarters prior to the month of the filing of the petition (i.e., April, 2002). See 19 CFR 351.204(b)(1).

Scope of Investigation

For purposes of this investigation, the product covered is all mixtures of urea and ammonium nitrate in aqueous or ammoniacal solution, regardless of nitrogen content by weight, and regardless of the presence of additives, such as corrosion inhibitors. The merchandise subject to this investigation is classified in the Harmonized Tariff Schedule of the United States (HTSUS) under item number 3102.80.00.00. Although the HTSUS item number is provided for convenience and U.S. Customs Service (the Customs Service) purposes, the written description of the merchandise under investigation is dispositive.

Nonmarket Economy Country Status

The Department has treated Russia as a nonmarket economy (NME) country in previous antidumping investigations (e.g., see Notice of Final Determination of Sales at Less Than Fair Value: Structural Steel Beams From the Russian Federation, 67 FR 35490 (May 20, 2002) Notice of Final Determination of Sales at Not Less Than Fair Value: Pure Magnesium From the Russian Federation, 66 FR 49347, (September 27, 2001), and the Notice of Final Determination of Sales at Less Than Fair Value: Certain Cold-Rolled Flat-Rolled Carbon-Quality Steel Products From the Russian Federation, 65 FR 5510 (February 4, 2000)). In accordance with section 771(18)(C) of the Act, any determination that a foreign country is an NME country shall remain in effect until revoked. On June 6, 2002, the Department revoked Russia's NME status effective April 1, 2002. Because the POI for this investigation precedes the effective date of the market economy determination, this preliminary determination is based on information contained in the nonmarket economy questionnaire responses submitted by the respondent. Therefore, pursuant to section 771(18)(C) of the Act, the Department will continue to treat Russia as an NME country for the purposes of this investigation.

When the Department is investigating imports from an NME country, section 773(c)(1) of the Act directs the Department to base normal value (NV) on the NME producer's factors of production (FOP), valued in a comparable market economy that is a significant producer of comparable merchandise. The sources of individual FOP prices are discussed under the “Normal Value” section, below.

Separate Rates

In an NME proceeding, the Department presumes that all companies within the country are subject to governmental control and should be assigned a single antidumping duty rate unless the respondent demonstrates the absence of both de jure and de facto governmental control over its export activities. See Notice of Final Determination of Sales at Less Than Fair Value: Bicycles From the People's Republic of China, 61 FR 19026, 19027 (April 30, 1996). Nevinka ³ has provided the requested company-specific separate rates information and has indicated that there is no element of government ownership or control over its operations. We have considered whether Nevinka is eligible for a separate rate as discussed below.

³ Both Nevinka and an affiliated reseller participated in the sales process during the POI. Because they are affiliated, we are analyzing the separate rates information as applicable to both Nevinka and the affiliated reseller.

The Department's separate-rates test is not concerned, in general, with macroeconomic/border-type controls (e.g., export licenses, quotas, and minimum export prices), particularly if these controls are imposed to prevent dumping. Rather, the test focuses on controls over the export-related investment, pricing, and output decision-making processes at the individual firm level. See Notice of Final Determination of Sales at Less Than Fair Value: Certain Cut-to-Length Carbon Steel Plate From Ukraine, 62 FR 61754, 61757 (November 19, 1997); Tapered Roller Bearings and Parts Thereof, Finished and Unfinished, from the People's Republic of China: Final Results of Antidumping Duty Administrative Review, 62 FR 61276, 61279 (November 17, 1997); and Notice of Preliminary Determination of Sales at Less Than Fair Value: Honey From the People's Republic of China, 60 FR 14725, 14726 (March 20, 1995).

To establish whether a firm is sufficiently independent from government control to be entitled to a separate rate, the Department analyzes each exporting entity under a test arising out of the Final Determination of Sales at Less Than Fair Value: Sparklers from the People's Republic of China, 56 FR 20588 (May 6, 1991), as modified in the Final Determination of Sales at Less Than Fair Value: Silicon Carbide from the People's Republic of China, 59 FR 22585, 22587 (May 2, 1994) (Silicon Carbide). Under this test, the Department assigns separate rates in NME cases only if an exporter can demonstrate the absence of both de jure and de facto governmental control over its export activities. See Silicon Carbide, 59 FR 22587, and the Notice of Final Determination of Sales at Less Than Fair Value: Furfuryl Alcohol From the People's Republic of China, 60 FR 22544, 22545 (May 8, 1995).

1. Absence of De Jure Control

The Department considers the following de jure criteria in determining whether an individual company may be granted a separate rate: (1) An absence of restrictive stipulations associated with an individual exporter's business and export licenses; (2) any legislative enactments decentralizing control of companies; and (3) any other formal measures by the government decentralizing control of companies.

Nevinka has placed on the record a number of documents to demonstrate the absence of de jure control, including Nevinka's business licenses and company registration. Other than limiting Nevinka's operations to the activities referenced in the license, we noted no restrictive stipulations associated with the licenses. Therefore, based on the foregoing, we have preliminarily found an absence of de jure control.

2. Absence of De Facto Control

The Department typically considers four factors in evaluating whether each respondent is subject to de facto governmental control of its export functions: (1) Whether the export prices are set by, or subject to, the approval of a governmental authority; (2) whether the respondent has authority to negotiate and sign contracts and other agreements; (3) whether the respondent has autonomy from the government in making decisions regarding the selection of its management; and (4) whether the respondent retains the proceeds of its export sales and makes independent decisions regarding the disposition of profits or financing of losses.

With regard to the issue of de facto control, Nevinka has reported the following: (1) There is no government participation in setting export prices; (2) its managers have authority to negotiate sales contracts; (3) the government does not participate in management selection, and (4) there are no restrictions on the use of its export revenue. Furthermore, Nevinka is responsible for financing its own losses. Although Nevinka is obligated by Russian law to convert a certain percentage of foreign currency receipts into rubles, the Department has not considered such foreign exchange requirements to constitute de facto control. See Notice of Preliminary Determination of Sales at Less Than Fair Value and Postponement of Final Determination: Solid Agricultural Grade Ammonium Nitrate From Ukraine, 66 FR 13286, 13289 (March 5, 2001); Notice of Final Determination of Sales At Less Than Fair Value: Solid Agricultural Grade Ammonium Nitrate From Ukraine, 66 FR 38632, 38633 (July 25, 2001). Additionally, Nevinka's questionnaire response does not suggest that pricing is coordinated among exporters. Furthermore, our analysis of Nevinka's questionnaire response reveals no other information indicating governmental control of export activities. Therefore, based on the information provided, we preliminarily determine that there is an absence of de facto government control over Nevinka's export functions. Consequently, we preliminarily determine that the respondent has met the criteria for the application of a separate rate.

For further discussion of our preliminary separate rates determination, see the Separate Rates Analysis for the Preliminary Determination: Antidumping Duty Investigation of Urea Ammonium Nitrate Solutions from the Russian Federation, dated concurrently with this notice, on file in the Central Records Unit (CRU) located in B-099 of the main Department of Commerce building.

The Russia-Wide Rate

In all NME cases, the Department makes a rebuttable presumption that all exporters or producers located in the NME country comprise a single exporter under common government control, the “NME entity.” The Department assigns a single NME rate to the NME entity unless an exporter can demonstrate eligibility for a separate rate. Although the Department provided all Russian exporters of UANS with the opportunity to respond to its questionnaire, only Nevinka provided a response. However, our review of U.S. import statistics reveals that there are other Russian companies, in addition to Nevinka, that exported UANS to the United States during the POI. Because these exporters did not submit a response to the Department's questionnaire, and thus did not demonstrate their entitlement to a separate rate, we have implemented the Department's rebuttable presumption that these exporters constitute a single enterprise under common control by the Russian government, and we are applying adverse facts available to determine the single antidumping duty rate, the Russia-wide rate, applicable to all other Russian exporters comprising this single enterprise. See, e.g., Final Determination of Sales at Less Than Fair Value: Synthetic Indigo from the People's Republic of China, 65 FR 25706, 25707 (May 3, 2000).

Use of Facts Otherwise Available

Section 776(a)(2) of the Act provides that “if an interested party or any other person (A) withholds information that has been requested by the administering authority or the Commission under this title, (B) fails to provide such information by the deadlines for submission of the information or in the form and manner requested, subject to subsections (c)(1) and (e) of section 782, (C) significantly impedes a proceeding under this title, or (D) provides such information but the information cannot be verified as provided in section 782(i), the administering authority and the Commission shall, subject to section 782(d), use the facts otherwise available in reaching the applicable determination under this title.” Pursuant to section 782(e) of the Act, the Department shall not decline to consider information that is submitted by an interested party and that is necessary to the determination, even if that information does not meet all the applicable requirements established by the Department, if all of the following requirements are met: (1) The information is submitted by the deadline established for its submission; (2) the information can be verified; (3) the information is not so incomplete that it cannot serve as a reliable basis for reaching the applicable determination; (4) the interested party has demonstrated that it acted to the best of its ability in providing the information and meeting the requirements established by the Department with respect to the information; and (5) the information can be used without undue difficulties.

Section 776(b) of the Act further provides that adverse inferences may be used when an interested party has failed to cooperate by not acting to the best of its ability to comply with a request for information. In this case, except for Nevinka, all Russian producers/exporters of subject merchandise that exported to the United States during the POI failed to act to the best of their ability by not providing a response to the Department's questionnaire. Thus, the Department has determined that, in selecting from among the facts otherwise available, an adverse inference is warranted. It is the Department's practice to assign to non-cooperative respondents the higher of the highest petition margin, adjusted as appropriate, or the highest margin calculated for any respondent in the proceeding (see, e.g., Notice of Final Determination of Sales at Less Than Fair Value: Stainless Steel Wire Rod from Japan, 63 FR 40434 (July 29, 1998)). In this case, the highest margin on record is 331.4 percent, the rate from the petition as published in the Initiation Notice.

Section 776(c) of the Act provides that where the Department selects from among the facts otherwise available and relies on “secondary information,” such as the petition, the Department shall, to the extent practicable, corroborate that information from independent sources reasonably at the Department's disposal. The Statement of Administrative Action accompanying the URAA, H.R. Doc. No. 103-316 (1994) (SAA), states that “corroborate” means to determine that the information used has probative value. See SAA at 870.

In order to determine the probative value of the information used to calculate the Russian-wide rate, we examined evidence supporting the calculations in the petition. In accordance with section 776(c) of the Act, to the extent practicable, we examined the key elements of the export price (EP) and NV calculations on which the petition margin calculations were based. The petitioner's methodology for calculating EP and NV is discussed in the Initiation Notice. In the petition, EP was based average unit values (AUVs) of imports of subject merchandise during the POI based on official U.S. government import statistics. We recalculated the EP to reflect AUVs in the full POI. Therefore, we consider this information corroborated. To corroborate the petitioner's NV calculations, we compared the factor consumption rates reported in the petition to the factor consumption rates for these inputs reported by Nevinka, the only responding company in this investigation. Because these were significantly different, we substituted Nevinka's consumption rates for those in the petition. Regarding the factor values, because the Department has preliminarily determined to use a different surrogate country than was used in the petition, we have substituted the factor values developed for this preliminary determination for those in the petition. In instances where a factor value was reported in the petition for which we did not develop a surrogate value, we continued to use the value in the petition.

As a result of these changes, we found that the recalculated petition margin, 233.85 percent, is the highest margin on the record of this case. We have corroborated any secondary information to the extent practicable. To the extent this margin is a recalculated margin based on current information from the investigation, it does not represent secondary information, and, thus, does not need to be corroborated. Thus, the Department has preliminarily determined the Russian-wide rate to be 233.85 percent. For the final determination, the Department will consider all margins on the record at that time for the purpose of determining the most appropriate margin to be used as adverse facts available. See the memorandum on Corroboration of Secondary Information of the Antidumping Duty Investigation of Urea Ammonium Nitrate Solutions from the Russian Federation (Russia), dated September 26, 2002, on file CRU located in B-099 of the main Department of Commerce building.

Fair Value Comparison

To determine whether Nevinka's sales of UANS to customers in the United States were made at LTFV, we compared EP to NV, calculated using our NME methodology, as described in the “Export Price” and “Normal Value” sections of this notice below. In accordance with section 777A(d)(1)(A)(i) of the Act, we calculated weighted-average EPs.

Export Price

We used EP methodology in accordance with section 772(a) of the Act because Nevinka reported that it and an affiliated reseller participate in the sales process to sell subject merchandise to unaffiliated U.S. customers prior to importation and because constructed export price (CEP) methodology was not otherwise warranted.

We calculated EP based on the prices charged to the first unaffiliated customer for exportation to the United States. Where appropriate, we made deductions from the starting price (gross unit price) for foreign inland freight. Where foreign inland freight was provided by NME companies we used surrogate values from Egypt to value these expenses (see the Surrogate Country Values Used for the Preliminary Determination of the Antidumping Duty Investigation of Urea-Ammonium Nitrate Solutions from the Russian Federation (Surrogate Value Memo), dated September 26, 2002, on file in the CRU).

Date of Sale

As stated at 19 CFR 351.401(i), the Department normally will use the respondent's invoice date as the date of sale unless another date better reflects the date upon which the exporter or producer establishes the essential terms of sale. Although “the Department prefers to use invoice date as the date of sale, we are mindful that this preference does not require the use of invoice date if the facts of a case indicate a different date better reflects the time at which the material terms of sale were established.” See Circular Welded Non-Alloy Steel Pipe From the Republic of Korea; Final Results of Antidumping Duty Administrative Review, 63 FR 32833 (June 16, 1998).

For the first half of the POI, Nevinka reported the contract addenda date as the date of sale because, according to Nevinka, it is the date when all the essential terms of sales were established. For these sales, the Department is using the contract addenda date as the date of sale. During the second half of the POI, Nevinka revised its selling methods. As a result of this change, Nevinka reported the date of shipment as the date of sale.

We have generally accepted Nevinka's date of sale methodology. However, for sales concluded in the first half of the POI but carried out in the second half, we used Nevinka's shipment date as date of sale, rather than the contract addenda date to ensure consistency in the treatment of transactions with this fact pattern. See Calculation Memorandum for the Preliminary Determination: Antidumping Duty Investigation on Urea Ammonium Nitrate Solutions from the Russian Federation, dated September 26, 2002.

Billing Adjustments

For the purposes of the preliminary determination, the Department has not adjusted Nevinka's price for reported billing adjustments because Nevinka has not substantiated its claim for these adjustments. Although Nevinka provided a narrative description of the process involved in calculating the billing adjustments, it failed to place documentation on the record substantiating this claim. According to 19 CFR 351.401(b), “the interested party that is in possession of the relevant information has the burden of establishing to the satisfaction of the Secretary the amount and nature of a particular adjustment.” The Department will examine this issue at verification.

Normal Value

1. Surrogate Country

Section 773(c)(4) of the Act requires that the Department value the NME producer's factors of production, to the extent possible, on the prices or costs of factors of production in one or more market economy countries that are: (1) At a level of economic development comparable to that of the NME country; and (2) significant producers of comparable merchandise. The Department's Office of Policy initially identified five countries that are at a level of economic development comparable to Russia in terms of per capita Gross National Product (GNP) and the national distribution of labor. Those countries are Columbia, Egypt, the Philippines, Thailand, and Tunisia (see the memorandum from Jeffrey May to Holly Kuga dated February 28, 2002 on file in the CRU). As noted in the memorandum on Selection of Surrogate Country: Preliminary Determination: Antidumping Investigation on Urea Ammonium Nitrate Solutions from the Russian Federation (September 26, 2002) on file in the CRU, Egypt is economically comparable to Russia. Egypt is also a significant producer of comparable merchandise. Moreover, there is sufficient publicly available information on Egyptian values. Accordingly, we have preliminarily calculated NV using publicly available information from Egypt to value Nevinka's factors of production, except where noted below.

2. Factors of Production

Factors of production include: (1) Hours of labor required; (2) quantities of raw materials employed; (3) amounts of energy and other utilities consumed; and (4) representative capital costs, including depreciation. See section 773(c) of the Act. To calculate NV, we multiplied the reported per-unit quantities for these factors by publicly available surrogate values.

In selecting the surrogate values, we considered the quality, specificity, and contemporaneity of the surrogate values. For those values not contemporaneous with the POI, we adjusted the values to account for inflation using wholesale price indices published in the International Monetary Fund's International Financial Statistics. As appropriate, we included freight costs in input prices to make them delivered prices. Specifically, we added to the surrogate values a surrogate freight cost using the shorter of the reported distance from the domestic input supplier to the factory or the distance from the nearest seaport to the factory. This adjustment is in accordance with the Court of Appeals for the Federal Circuit's decision in Sigma Corp. v. United States, 117 F. 3d 1401 (Fed. Cir. 1997).

We valued material inputs (including sodium 3-polyphosphate, caustic sodium, aluminum sulphate, polyacrylamide, quicklime, liquid chlorine, anthracite coal, hydrozinehydrate, sulfuric acid, and sodium bichromate) using values from the appropriate Harmonized Tariff Schedule (HTS) item number, from 1999 Egyptian import statistics reported in the United Nations Commodity Trade Statistics (UNCTS), adjusted for inflation.

For the material input, anti-foam Lapron, we used India as the surrogate country, since no surrogate value information has been placed on the record or has otherwise been identified for Egypt or any other country on the Department's surrogate country list. Therefore, we have used April 2001—December 2001 import data from the appropriate HTS item number as reported in the December 2001 annual volume of the Monthly Statistics of the Foreign Trade of India, Volume II—Imports.

For one material input, corrosion inhibitor, Nevinka reported that it purchased this item from a market economy supplier. Therefore, we used the amount that Nevinka reported it paid this supplier to value this input.

In its August 16, 2002, submission, Nevinka calculated a natural gas value of $28.47 per 1000m3 using an Egyptian government price decree for natural gas to consumers, including industrial consumers (see Nevinka's August 1, 2002, submission, Exhibit 10, for the Egyptian government decree). The petitioner reports in its September 4, 2002, submission that the Egyptian government purchased the gas from natural gas producers at $1.50 and $2.65 per Mmbtu (or approximately $54 to $96 per 1000m3) based on the price of crude oil, as of July 2001.

Publicly available information indicates that the Egyptian government has agreed to pay market prices for natural gas from private companies located in Egypt. Since the price at which the Egyptian government buys natural gas from gas producers appears to be at market prices, we have determined that the appropriate surrogate value for this factor is the price paid to the gas producers. This price accurately reflects the true market value of natural gas. Publicly available information indicates that predominate the price paid by the Egyptian government for natural gas was approximately $2.65 per Mmbtu during the POI. Therefore, we valued natural gas using information contemporaneous to the POI from an article dated July 18, 2002 published at www.rigzone.com/news/article.asp?a_id=3846 and we are applying $2.65 per Mmbtu (or $93.50 per 1000m3, adjusted for gross calorific value) as the surrogate value for natural gas in this case.

For labor, consistent with 19 CFR 351.408(c)(3), we used the Russian regression-based wage rate at the Import Administration's home page, Import Library, Expected Wages of Selected NME Countries, revised in September 2002 (see http://ia.ita.doc.gov/wages). The source of the wage rate data on the Import Administration's Web site is the 2001 Year Book of Labour Statistics, International Labor Organization (Geneva: 2001), Chapter 5B: Wages in Manufacturing.

We valued electricity using the public prices from the Department's Trade Information Center for high consumption industrial consumers, as employed in silicomanganese from Kazakstan. See Final Determination of Sales at Less than Fair Value: Silicomanganese from Kazakhstan, 67 FR 15535 (April 2, 2002).

To value rail rates, we used the surrogate value from Egypt employed in titanium sponge from Kazakhstan. See Titanium Sponge from the Republic of Kazakhstan: Notice of Final Results of Antidumping Duty Administrative Review, 64 FR 48973 (November 24, 1999).

We based our calculation of selling, general and administrative (SG&A) expenses, overhead, and profit on the financial statements of Chemical Industries Company, Egyptian Financial & Industrial Company, and El Delta Fertilizers and Chemical Industries, Egyptian producers of comparable merchandise.

For a complete analysis of surrogate values used in the preliminary determination, see the Surrogate Values Memo.

Verification

In accordance with section 782(i) of the Act, we intend to verify all information relied upon in making our final determination.

Suspension of Liquidation

We are directing the Customs Service to suspend liquidation of all entries of subject merchandise from Russia entered, or withdrawn from warehouse, for consumption on or after the date on which this notice is published in the Federal Register. In addition, we are instructing the Customs Service to require a cash deposit or the posting of a bond equal to the weighted-average amount by which the NV exceeds the EP, as indicated in the chart below. These instructions suspending liquidation will remain in effect until further notice.

We determine that the following weighted-average percentage margins exist for the POI:

Manufacturer/exporter | Weighted-average margin (percent)
Nevinka | 138.95
Russia-Wide Rate | 233.85

The Russia-wide rate applies to all entries of the subject merchandise except for entries from Nevinka.

Disclosure

In accordance with 19 CFR 351.224(b), the Department will disclose the calculations performed in the preliminary determination to interested parties within five days of the date of publication of this notice.

ITC Notification

In accordance with section 733(f) of the Act, we have notified the ITC of the Department's preliminary affirmative determination. If the final determination in this proceeding is affirmative, the ITC will determine before the later of 120 days after the date of this preliminary determination or 45 days after the final determination whether imports of UANS from Russia are materially injuring, or threaten material injury to, the U.S. industry.

Public Comment

In accordance with 19 CFR 351.301(c)(3)(i), interested parties may submit publicly available information to value the factors of production for purposes of the final determination within 40 days after the date of publication of this preliminary determination. Case briefs or other written comments must be submitted to the Assistant Secretary for Import Administration no later than one week after issuance of the verification report. Rebuttal briefs, whose contents are limited to the issues raised in the case briefs, must be filed within five days after the deadline for the submission of case briefs. A list of authorities used, a table of contents, and an executive summary of issues should accompany any briefs submitted to the Department. Executive summaries should be limited to five pages total, including footnotes. Further, we request that parties submitting briefs and rebuttal briefs provide the Department with a copy of the public version of such briefs on diskette.

In accordance with section 774 of the Act, we will hold a public hearing, if requested, to afford interested parties an opportunity to comment on arguments raised in case or rebuttal briefs. If a request for a hearing is made, we will tentatively hold the hearing two days after the deadline for submission of rebuttal briefs at the U.S. Department of Commerce, 14th Street and Constitution Avenue, NW., Washington, DC 20230, at a time and in a room to be determined. Parties should confirm by telephone the date, time, and location of the hearing 48 hours before the scheduled date. Interested parties who wish to request a hearing, or to participate in a hearing if one is requested, must submit a written request to the Assistant Secretary for Import Administration, U.S. Department of Commerce, Room 1870, within 30 days of the date of publication of this notice. Requests should contain: (1) The party's name, address, and telephone number; (2) the number of participants; and (3) a list of the issues to be discussed. At the hearing, oral presentations will be limited to issues raised in the briefs. See 19 CFR 351.310(c). The Department will make its final determination no later than 75 days after this preliminary determination.

This determination is issued and published in accordance with sections 733(f) and 777(i)(1) of the Act.

Dated: September 26, 2002.
Faryar Shirzad,
Assistant Secretary for Import Administration.

[FR Doc. 02-25186 Filed 10-2-02; 8:45 am]

BILLING CODE 3510-DS-P